DEPARTMENT OF JUSTICE

Antitrust Division

Notice Pursuant to the National Cooperative Research and Production Act of 1993—Tizen Association (Formerly LiMo Foundation)

Notice is hereby given that, on June 4, 2012, pursuant to Section 6(a) of the National Cooperative Research and Production Act of 1993, 15 U.S.C. 4301 et seq. (“the Act”), Tizen Association (“Tizen”) has filed written notifications simultaneously with the Attorney General and the Federal Trade Commission disclosing changes in its membership. The notifications were filed for the purpose of extending the Act's provisions limiting the recovery of antitrust plaintiffs to actual damages under specified circumstances. LiMo Foundation has changed its name to Tizen Association (“Tizen”). In addition, Huawei Device Co., Ltd., Shenzhen, PEOPLE'S REPUBLIC OF CHINA; Intel Corporation, Chandler, AZ; and France Telecom S.A. (Orange Personal Communications Services Limited, Moulineaux, FRANCE, have been added as parties to the Association.

The following parties have withdrawn from the venture: Access Co. Ltd., Tokyo, JAPAN; France Telecom S.A. (Orange Personal Communications Services Limited, Moulineaux, FRANCE; Adobe, San Jose, CA; ARM Holdings, PLC, Cambridge, UNITED KINGDOM; ETRI Embedded SW Division, Daejon, REPUBLIC OF KOREA; Gemalto, N.V., Amsterdam, NETHERLANDS; Huawei Communication Technologies Co. Ltd., Shenzhen, PEOPLE'S REPUBLIC OF CHINA; Incross Co. Ltd., Seoul, REPUBLIC OF KOREA; Marvell International Ltd., Hamilton, BERMUDA; McAfee Inc., Santa Clara, CA; NTT DATA MSE, Yokohama, JAPAN; Renesas Mobile Corporation, Tokyo, JAPAN; Verizon Communications, Inc., Basking Ridge, NJ, and Wind River Systems, Alameda, CA.

No other changes have been made in either the membership or planned activity of the group research project. Membership in this group research project remains open, and Tizen intends to file additional written notifications disclosing all changes in membership.

On March 1, 2007, Tizen (Formerly LiMo Foundation) filed its original notification pursuant to Section 6(a) of the Act. The Department of Justice published a notice in the Federal Register pursuant to Section 6(b) of the Act on April 9, 2007 (72 FR 17583).

The last notification was filed with the Department on July 19, 2011. A notice was published in the Federal Register pursuant to Section 6(b) of the Act on September 23, 2011 (76 FR 59161).

Patricia A. Brink,
Director of Civil Enforcement, Antitrust Division.

[FR Doc. 2012-15936 Filed 6-28-12; 8:45 am]

BILLING CODE P